FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-051.

Title: Caribbean Shipowners Association.

Parties: CMA CGM, S.A.; Seaboard Marine, Ltd.; Seafreight Line, Ltd.; and Zim Integrated Shipping Services, Ltd.

Filing Party: Wayne R. Rohde, Esq.; Cozen O'Connor, 1627 I Street NW.; Washington, DC 20006-4007.

Synopsis: The amendment would add Tropical Shipping and Construction Company Limited as a party to the agreement.

Agreement No.: 012008-006.

Title: The 360 Quality Association Agreement.

Parties: Ambassador Services, Inc., NYKCool AB, and Seatrade Group NV.

Filing Party: Wayne R. Rohde, Esq.; Cozen O'Connor; 1627 I Street NW.; Suite 1100; Washington, DC 20006-4007.

Synopsis: The amendment would add Diamond State Port Corporation and Gloucester Terminals LLC as parties to the agreement.

Agreement No.: 012191.

Title: HSDG-CCNI USWC Space Charter Agreement.

Parties: Hamburg Sud and Compania Chilena De Navegacion Interoceanica, S.A.

Filing Party: Wayne R. Rohde, Esq.; Cozen O'Connor; 1627 I Street, NW., Suite 1100; Washington, DC 20006-4007.

Synopsis: The agreement authorizes Hamburg Sud to charter space to CCNI in the trade between ports in California and ports in Mexico, Guatemala, Panama, Ecuador, and Peru.

By Order of the Federal Maritime Commission.
Dated: December 7, 2012.
Rachel E. Dickon,
Assistant Secretary.

[FR Doc. 2012-29961 Filed 12-11-12; 8:45 am]

BILLING CODE P